DEPARTMENT OF HEALTH AND HUMAN SERVICES

Centers for Disease Control and Prevention

Disease, Disability, and Injury Prevention and Control Special Emphasis Panel: Assessment of Proposed Revisions to the Youth Tobacco Survey: Impact on Measures of Youth Tobacco Use, Request for Application Number (RFA) DP07-001

In accordance with section 10(a)(2) of the Federal Advisory Committee Act (Pub. L. 92-463), the Centers for Disease Control and Prevention (CDC) announces a meeting of the aforementioned Special Emphasis Panel.

Time and Date: 2:30 p.m.-5:30 p.m., December 12, 2006 (Closed).

Place: Teleconference.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of research grant applications in response to RFA DP07-001, “Assessment of Proposed Revisions to the Youth Tobacco Survey: Impact on Measures of Youth Tobacco Use.”

For Further Information Contact: Brenda Colley Gilbert, Acting Director, Office of Extramural Research, National Center for Chronic Disease Prevention and Health Promotion, 4770 Buford Highway, NE., MS K92, Atlanta, GA 30341, telephone 770.488.8390.

The Director, Management Analysis and Services Office, has been delegated the authority to sign Federal Register notices pertaining to announcements of meetings and other committee management activities, for both CDC and the Agency for Toxic Substances and Disease Registry.

Dated: November 8, 2006.
Alvin Hall,
Director, Management Analysis and Services Office, Centers for Disease Control and Prevention.

[FR Doc. E6-19234 Filed 11-14-06; 8:45 am]

BILLING CODE 4163-18-P